DEPARTMENT OF THE TREASURY

Departmental Offices; Submission for OMB Review, Comment Request

ACTION: Notice and request for comments.

SUMMARY: The Department of the Treasury, on behalf of itself and the United States Bureau of Engraving and Printing (BEP) and as part of its continuing effort to reduce paperwork and respondent burden, invites the general public and other Federal agencies to comment on two proposed information collections, as required by the Paperwork Reduction Act of 1995, Public Law 104-13 (44 U.S.C. 3506(c)(2)(A)). The BEP intends to request approval from the Office of Management and Budget (OMB) for two generic clearances. The first generic clearance will allow the BEP to collect information from attendees of conferences and gatherings for persons who are blind and visually impaired about which tactile features most effectively provide meaningful access to denominate United States paper currency. The second generic clearance will allow the BEP to engage in scientific studies that will help gauge the acuity with which blind and visually impaired persons can denominate United States paper currency using various, tactile features currently being evaluated.

DATES: Written comments should be received on or before March 30, 2012 to be assured of consideration.

ADDRESSES: Comments regarding these information collections should be addressed to the BEP Contact listed below and to the Treasury Department PRA Clearance Officer, Department of the Treasury, Room 11000, 1750 Pennsylvania Avenue NW., Washington, DC 20220.

FOR FURTHER INFORMATION CONTACT: Copies of the submission(s) may be obtained by contacting Sonya White, Deputy Chief Counsel, United States Department of the Treasury, Bureau of Engraving and Printing, 14th and C Streets SW., Washington, DC 20228, by telephone at (202) 874-8184, or by e-mail at sonya.white@bep.gov.

SUPPLEMENTARY INFORMATION:

Title: Generic Clearances for Meaningful Access Information Collections.

OMB Control Number: NEW.

Abstract: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury * * * .”

In compliance with the court's order, BEP intends to meet individually with blind and visually impaired persons and request their feedback about tactile features that BEP is considering for possible incorporation into the next U.S. paper currency redesign. BEP employees will attend national conventions and conferences for disabled persons. At those gatherings, BEP employees will invite blind and visually impaired persons to provide feedback about certain tactile features being considered for inclusion in future United States currency paper designs. The BEP intends to contract with specialists in the field of tactile acuity to develop methodologies for collecting the feedback.

The BEP also intends to contract with specialists in the field of tactile acuity to conduct scientific tests. The specialists contracted with by the BEP will conduct acuity testing with select groups of blind and visually impaired volunteers. The acuity tests will help either confirm or provide other perspectives on the results of BEP's information collections at national conferences and conventions. The acuity tests will also help provide a scientific basis on which BEP determines the tactile feature to be incorporated into the next United States paper currency design.

The BEP's information collection activities at national conferences will use identical methodologies or otherwise share a common element as those employed by specialists contracted with by BEP to perform scientific acuity studies. Thus the BEP, in order to comply with the court's order in ACB v, Paulson requests OMB approval for two generic clearances to conduct various information collection activities. Over the next three years, the BEP anticipates undertaking a variety of new information collection activities related to BEP's efforts to provide meaningful access to U.S. paper currency for blind and visually impaired persons. Following standard OMB requirements, for each information collection that BEP proposes to undertake under each of these generic clearances, the OMB will be notified at least two weeks in advance and provided with a copy of the information collection instrument along with supportive materials. The BEP will only undertake a new collection if the OMB does not object to the BEP's proposal.

Type of Review: New Collection.

Affected Public: Individuals, Organizations.

Respondent's Obligation: Voluntary.

Estimated Number of Respondents: Approximately 500 per year. With regard to information collected at conferences and conventions, BEP is able to estimate the number of attendees at such conferences and meetings based on historical data. The BEP, however, only collects information from volunteers who stop by its information booth, and who care to take the time responding to questions. It is difficult, therefore, to estimate the actual number of respondents from whom BEP may be able to collect information in a year.

Estimated Average Time per Respondent: 15 minutes per response.

Estimated Total Annual Burden Hours: Approximately 125 burden hours.

With regard to scientifically based acuity studies, they will be designed and conducted at various locations around the country as prescribed by the specialist contracted by the BEP. The BEP estimates two such studies will be conducted per calendar year. Each study will likely involve up to 50 subjects. Each individual data collection session will be approximately 60 minutes long.

Estimated Average Time per Respondent: 60 minutes per response.

Estimated Total Annual Burden Hours: Approximately 100 burden hours.

Request for Comments: Comments submitted in response to this notice will be summarized and/or included in the request for Office of Management and Budget approval. All comments will become a matter of public record. The public is invited to submit written comments concerning: (a) Whether the collection of information is necessary for the proper performance of the functions of the Bureau, including whether the information will have practical uses; (b) the accuracy of the above estimate of the burden of the proposed information collection; (c) ways to enhance the quality, usefulness, and clarity of the information to be collected; and (d) ways to minimize the reporting burdens on respondents, including the use of automated collection techniques or other forms of information technology.

Treasury Department PRA Clearance Officer: Robert Dahl, Department of the Treasury, Room 11000, 1750 Pennsylvania Avenue NW., Washington, DC 20220.

BEP Contact: Sonya White, Deputy Chief Counsel, United States Department of the Treasury, Bureau of Engraving and Printing, Room 419-A, 14th and C Streets SW., Washington, DC 20228.

Robert Dahl,
Treasury Department PRA Clearance Officer.

[FR Doc. 2012-1891 Filed 1-27-12; 8:45 am]

BILLING CODE 4810-25-P